INTERNATIONAL TRADE COMMISSION

[Investigation No. 337-TA-1272]

Certain Integrated Circuits and Products Containing Same; Notice of Commission Decision Not To Review an Initial Determination Terminating the Investigation Based on Settlement; Termination of Investigation

AGENCY: U.S. International Trade Commission.

ACTION: Notice.

SUMMARY: Notice is hereby given that the U.S. International Trade Commission has determined not to review an initial determination (“ID”) (Order No. 24) of the presiding administrative law judge (“ALJ”), terminating the investigation based on settlement. The investigation is terminated.

FOR FURTHER INFORMATION CONTACT: Megan M. Valentine, Esq., Office of the General Counsel, U.S. International Trade Commission, 500 E Street SW, Washington, DC 20436, telephone (202) 708-2301. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone 202-205-1810.

SUPPLEMENTARY INFORMATION: The Commission instituted this investigation on July 27, 2021, based on a complaint filed on behalf of MediaTek Inc. of Taiwan and MediaTek USA Inc. of San Jose, California (collectively, “MediaTek”). 86 FR 40208-09 (Jul. 27, 2021). The complaint alleges violations of section 337 of the Tariff Act of 1930, as amended, 19 U.S.C. 1337, based upon the importation into the United States, the sale for importation, and the sale within the United States after importation of certain integrated circuits and products containing same by reason of infringement of certain claims of U.S. Patent Nos. 8,772,928 (“the '928 patent”); 7,231,474 (“the '474 patent”); 10,616,017 (“the '017 patent”); 10,200,228 (“the '228 patent”); and 10,264,580. The Commission's notice of investigation named ten (10) respondents, including: NXP Semiconductors N.V. of Eindhoven, Netherlands; NXP USA, Inc. of Austin, Texas; Avnet, Inc. of Phoenix, Arizona; Arrow Electronics, Inc. of Centennial, Colorado; Mouser Electronics, Inc. of Mansfield, Texas; Continental AG and Continental Automotive GmbH, both of Hanover, Germany; Continental Automotive Systems, Inc. of Auburn Hills, Michigan; Robert Bosch GmbH of Gerlingen-Schillerhöhe, Germany; and Robert Bosch LLC of Farmington Hills, Michigan (collectively, “Respondents”). The Office of Unfair Import Investigations (“OUII”) is participating in the investigation.

The Commission previously terminated the investigation as to certain claims of the '928 patent, the '474 patent, the '017 patent, and the '228 patent. See Order No. 16 (Feb. 9, 2022), unreviewed by Notice (Mar. 2, 2022); Order No. 21, unreviewed by Notice (May 16, 2022).

On July 12, 2022, MediaTek and Respondents filed a joint motion to terminate the investigation in its entirety based on a settlement agreement (“Agreement”). On July 14, 2022, OUII filed a statement in support of termination but expressed concerns regarding the redactions to the public version of the Agreement. On July 21, 2022, MediaTek and Respondents filed a revised public version of the Agreement.

On July 25, 2022, the presiding ALJ issued the subject ID (Order No. 24), granting the joint motion to terminate the investigation based on settlement. The ID finds that the motion for termination satisfies Commission Rule 210.21(b) (19 CFR 210.21(b)) and that no extraordinary circumstances exist that would prevent the requested termination. No petitions for review were filed.

The Commission has determined not to review the subject ID. The investigation is terminated in its entirety.

The Commission vote for this determination took place on August 4, 2022.

The authority for the Commission's determination is contained in section 337 of the Tariff Act of 1930, as amended, 19 U.S.C. 1337, and in Part 210 of the Commission's Rules of Practice and Procedure, 19 CFR part 210.

By order of the Commission.
Issued: August 4, 2022.
Katherine M. Hiner,
Acting Secretary to the Commission.

[FR Doc. 2022-17068 Filed 8-8-22; 8:45 am]

BILLING CODE 7020-02-P